DEPARTMENT OF TRANSPORTATION

Federal Aviation Administration

Proposed Change to Paragraph 63, Aircraft Build From Spare and/or Surplus Parts in FAA Order 8130.2E, Airworthiness Certification of Aircraft and Related Products

AGENCY: Federal Aviation Administration (FAA), DOT.

ACTION: Notice of availability.

SUMMARY: After reviewing current policy it has been noted that changes are needed to better standardize compliance with Title 14 Code of Federal Regulations (14 CFR) chapter 1, subchapter C. This notice announces the availability of a proposed change to paragraph 63 of FAA Order 8130.2E for review and comment. The purpose of this change is to revise guidance and instructions on issuing a standard airworthiness certificate (under § 21.183d) for an aircraft assembled from spare and/or surplus parts when the aircraft has a TC issued under § 21.21, § 21.27, or § 21.29.

DATES: Comments submitted must be received no later than April 7, 2003.

ADDRESSES: Copies of proposed change can be obtained from and comments may be returned to the following: Federal Aviation Administration, Production and Airworthiness Division, AIR-200, Room 815, 800 Independence Avenue, SW., Washington, DC 20591.

FOR FURTHER INFORMATION CONTACT: Loyal Woodworth, Federal Aviation Administration, Production and Airworthiness Division, AIR-200, Room 815, 800 Independence Avenue, SW., Washington, DC 20591, (202) 267-8361. E-mail address: loyal.woodworth@faa.gov.

SUPPLEMENTARY INFORMATION: Interested persons are invited to comment on the proposed change listed in this notice, by submitting such written data, views, or arguments as they desire to the aforementioned address. Comments must be marked “Comments to Order 8130.2E changes to paragraph 63.” The Director, Aircraft Certification Service, will consider all communications received on or before the closing date, before issuing the final change. Comments received on the proposed change may be examined before and after the comment closing date in Room 815, FAA headquarters building (FOB-10A), 800 Independence Avenue, SW., Washington, DC 20591, between 8:30 a.m. and 4:30 p.m.

Issued in Washington, DC, on February 20, 2003.
Frank P. Paskiewicz,
Manager, Production and Airworthiness Division, AIR-200.

[FR Doc. 03-5455 Filed 3-6-03; 8:45 am]

BILLING CODE 4910-13-M